NUCLEAR REGULATORY COMMISSION

[NRC-2020-0160]

Changes to Subsequent License Renewal Guidance Documents; Correction

AGENCY: Nuclear Regulatory Commission.

ACTION: Draft interim staff guidance; correction; extension of comment period.

SUMMARY: On July 2, 2020, the U.S. Nuclear Regulatory Commission (NRC) solicited comments on three draft interim staff guidance documents (ISGs) that propose changes to the NRC's subsequent license renewal guidance documents. Several aging management review (AMR) line items were inadvertently omitted from the draft mechanical ISG. These omitted AMR line items are provided in an errata document. The public comment period was originally scheduled to close on August 3, 2020. The NRC has decided to extend the public comment period to allow more time for members of the public to develop and submit their comments.

DATES: The due date of comments requested in the document published on July 2, 2020 (85 FR 39938) is extended. Comments should be filed no later than August 10, 2020. Comments received after this date will be considered, if it is practical to do so, but the Commission is able to ensure consideration only for comments received on or before this date.

ADDRESSES: You may submit comments by any of the following methods:

• Federal Rulemaking Website: Go to https://www.regulations.gov and search for Docket ID NRC-2020-0160. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: William (Butch) Burton, Office of Nuclear Reactor Regulation, U.S. Nuclear Regulatory Commission, Washington, DC 20555-0001; telephone: 301-415-6332; email: William.Burton@nrc.gov.

SUPPLEMENTARY INFORMATION:

I. Obtaining Information and Submitting Comments

A. Obtaining Information

Please refer to Docket ID NRC-2020-0160 when contacting the NRC about the availability of information for this action. You may obtain publicly-available information related to this action by any of the following methods:

• Federal Rulemaking Website: Go to https://www.regulations.gov and search for Docket ID NRC-2020-0160.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. For the convenience of the reader, instructions about obtaining materials referenced in this document are provided in the “Availability of Documents” section.

B. Submitting Comments

Please include Docket ID NRC-2020-0160 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On July 2, 2020, the NRC solicited comments on three draft interim staff guidance documents (ISGs) that propose changes to the NRC's subsequent license renewal guidance documents (85 FR 39938). The purpose of the ISGs is to incorporate lessons learned from the NRC staff's safety reviews of the first three Subsequent License Renewal Applications (SLRAs) for Turkey Point Nuclear Generating Units 3 and 4, Peach Bottom Atomic Power Station, Units 2 and 3, and Surry Power Station, Units 1 and 2. Specifically, the ISGs revise guidance contained in NUREG-2191, “Generic Aging Lessons Learned for Subsequent License Renewal (GALL-SLR) Report,” and NUREG 2192, “Standard Review Plan for Review of Subsequent License Renewal Applications for Nuclear Power Plants.” NUREG-2191 and NUREG-2192 were published in July 2017 and are not scheduled to be updated for several years. The proposed changes to these documents are contained in the three draft ISGs that update aging management criteria for mechanical, structures, and electrical portions of the guidance. Several aging management review (AMR) line items were inadvertently omitted from the draft mechanical ISG. These omitted AMR line items are provided in an errata document. The public comment period was originally scheduled to close on August 3, 2020. The NRC has decided to extend the public comment period on this document until August 10, 2020, to allow more time for members of the public to submit their comments.

III. Availability of Documents

The documents identified in the following table are available to interested persons in ADAMS, as indicated.

Document | ADAMS accession No.
NUREG-2191, “Generic Aging Lessons Learned for Subsequent License Renewal (GALL-SLR) Report” | ML16274A389 ML16274A399
NUREG-2192, “Standard Review Plan for Review of Subsequent License Renewal Applications for Nuclear Power Plants” | ML16274A402
Draft SLR-ISG-MECHANICAL-2020-XX; Updated Aging Management Criteria for Mechanical Portions of Subsequent License Renewal Guidance | ML20156A330
Draft SLR-ISG-STRUCTURES-2020-XX; Updated Aging Management Criteria for Structures Portions of Subsequent License Renewal Guidance | ML20156A338
Draft SLR-ISG-ELECTRICAL-2020-XX; Updated Aging Management Criteria for Electrical Portions of Subsequent License Renewal Guidance | ML20156A324
Errata for draft Mechanical ISG | ML20198M382

The NRC may post additional materials to the Federal Rulemaking website at https://www.regulations.gov under Docket ID NRC-2020-0160. The Federal Rulemaking website allows you to receive alerts when changes or additions occur in a docket folder. To subscribe: (1) Navigate to the docket folder (NRC-2020-0160); (2) click the “Sign up for Email Alerts” link; and (3) enter your email address and select how frequently you would like to receive emails (daily, weekly, or monthly).

Dated: July 27, 2020.
For the Nuclear Regulatory Commission.
Robert Caldwell,
Deputy Director, Division of New and Renewed Licenses, Office of Nuclear Reactor Regulation.

[FR Doc. 2020-16565 Filed 7-30-20; 8:45 am]

BILLING CODE 7590-01-P